ENVIRONMENTAL PROTECTION AGENCY

40 CFR Part 52

[Region 2 Docket No. NY62-261, FRL-7644-3]

Approval and Promulgation of Implementation Plans; Reasonably Available Control Technology for Oxides of Nitrogen for a Specific Source in the State of New York

AGENCY: Environmental Protection Agency (EPA).

ACTION: Proposed rule.

SUMMARY: The Environmental Protection Agency is proposing to conditionally approve a revision to the State Implementation Plan (SIP) for ozone submitted by the State of New York. This SIP revision consists of a source-specific reasonably available control technology (RACT) determination for controlling oxides of nitrogen from the sodium nitrite manufacturing plant operated by General Chemical Corporation. This action proposes a conditional approval of the source-specific RACT determination that was made by New York in accordance with provisions of its regulation to help meet the national ambient air quality standard for ozone. The intended effect of this proposed rule is to conditionally approve source-specific emission limitations required by the Clean Air Act.

DATES: Written comments must be received on or before May 7, 2004.

ADDRESSES: Comments may be submitted by mail to Raymond Werner, Chief, Air Programs Branch, Environmental Protection Agency, Region II Office, 290 Broadway, 25th Floor, New York, New York 10007-1866. Comments may also be submitted electronically, or through hand delivery/courier. Please follow the detailed instructions described in the “General Information” section of the SUPPLEMENTARY INFORMATION section.

FOR FURTHER INFORMATION CONTACT: Richard Ruvo, Air Programs Branch, Environmental Protection Agency Region II, 290 Broadway, 25th Floor, New York, New York 10007-1866, (212) 637-4014, Ruvo.Richard@epa.gov.

SUPPLEMENTARY INFORMATION:

Overview

The Environmental Protection Agency (EPA) is proposing to conditionally approve the New York State Department of Environmental Conservation's (New York's) source-specific reasonably available control technology (RACT) determination for controlling oxides of nitrogen (NOX) from the sodium nitrite manufacturing plant operated by General Chemical Corporation (General Chemical).

The following table of contents describes the format for this SUPPLEMENTARY INFORMATION section:

EPA's Proposed Action

What Action Is EPA Proposing Today?

Why Is EPA Proposing This Action?

What Are EPA's Proposed Conditions For Approval?

How Can New York Get Full Approval for This SIP Revision?

What Are the Clean Air Act Requirements for NOX RACT?

What Is EPA's Evaluation of New York's SIP Revision?

New York's SIP Revision

What are New York's NOX RACT Requirements?

What are New York's Facility-Specific NOX RACT Requirements?

When Was New York's RACT Determination Proposed and Adopted?

When Was New York's SIP Revision Submitted to EPA?

General Information

How Can I Get Copies Of This Document and Other Related Information?

How and To Whom Do I Submit Comments?

How Should I Submit CBI To the Agency?

Conclusion

Statutory and Executive Order Reviews

EPA's Proposed Action

What Action Is EPA Proposing Today?

EPA is proposing a conditional approval of New York's revision to the ozone State Implementation Plan (SIP) submitted to EPA on April 12, 2000, and supplemented on May 12, 2000, May 16, 2000, October 10, 2002, and February 24, 2003. This SIP revision relates to New York's NOX RACT determination for General Chemical's sodium nitrite manufacturing plant located in Solvay, Onondaga County.

Why Is EPA Proposing This Action?

EPA is proposing this action to:

• Give the public the opportunity to submit comments on EPA's proposed action, as discussed in the DATES and ADDRESSES sections.

• Fulfill New York's and EPA's requirements under the Clean Air Act (the Act).

• Require that New York's RACT determination consider recent developments in emission control technology.

• Require that New York's RACT determination be federally-enforceable.

What Are EPA's Proposed Conditions for Approval?

EPA is proposing the following three conditions for approving New York's source-specific SIP revision for General Chemical's NOX RACT plan:

1. New York and General Chemical must provide a reassessment of RACT, in a format consistent with the “EPA Air Pollution Control Cost Manual,” January 2002 (EPA 452/B-02-001), http://www.epa.gov/ttn/catc/products.html. The RACT reassessment must include, but not be limited to, the following:

• Analysis of the technical and economic feasibility of installing selective catalytic reduction (SCR) technology, including the complete evaluation of studies and processes at other similar facilities outside of the United States.

• Complete technical evaluation of switching from soda ash to sodium hydroxide, also known as caustic soda, for the entire manufacturing process, as well as a cost-effectiveness analysis of such a switch.

• Correction of Director Discretion provision in any existing or future permit conditions which require a RACT reassessment with language reflecting that the reassessment be approved by New York and EPA as a SIP revision.

2. New York and General Chemical must demonstrate compliance with the NO2 National Ambient Air Quality Standard, based on a cumulative air quality modeling analysis, consistent with EPA Guidance, as provided under section 110 of the Act.

3. New York and General Chemical must provide continuous emissions monitoring (CEM) data from the last two years, or any other two years since the 1997 State-approval of General Chemical's RACT analysis which are determined to be more representative of normal source operation.

These areas of New York's SIP revision and General Chemical's NOX RACT plan did not fully satisfy New York's NOX RACT regulations and EPA's NOX RACT guidance and SIP revision requirements. A Technical Support Document (TSD), prepared in support of this proposed action, contains a detailed description of EPA's conditions for approval, as well as a detailed description of New York's submittal and EPA's evaluation. A copy of the TSD is available upon request from the EPA Regional Office listed in the ADDRESSES section.

How Can New York Get Full Approval for This SIP Revision?

EPA is proposing conditional approval of New York's SIP revision, provided New York commits in writing, on or before May 7, 2004, to correct the deficiencies discussed in the “What Are EPA's Proposed Conditions for Approval?” section. New York must then correct the deficiencies and submit them to EPA within one year of EPA's final action on this SIP revision.

If New York submits a commitment to comply with EPA's conditions, EPA will publish a final conditional approval of New York's SIP revision. EPA will consider all information submitted prior to any final rulemaking action as a supplement or amendment to the April 12, 2000, submittal. Note that New York's February 24, 2003, supplementary submittal, which requested EPA to condition approval of the General Chemical SIP revision, only addressed the condition to reassess SCR in the RACT analysis. Therefore, New York must submit another commitment to comply with all of EPA's conditions. If New York does not make the required commitment to EPA, EPA is proposing in the alternative, to disapprove the SIP revision.

What Are the Clean Air Act Requirements for NOX RACT?

The Act requires certain states to develop RACT regulations for major stationary sources of NOX and to provide for the implementation of the required measures as soon as practicable but no later than May 31, 1995. Under the Act, the definition of major stationary source is based on the tons per year (tpy) of air pollution a source emits and the quality of the air in the area of the source. In ozone transport regions, attainment/unclassified areas, as well as marginal and moderate ozone nonattainment areas, a major stationary source for NOX is considered to be one which emits or has the potential to emit 100 tpy or more of NOX and is subject to the requirements of a moderate nonattainment area. New York is within the Northeast ozone transport region, established by section 184(a) of the Act. New York has defined a major stationary source of NOX as a source which has the potential to emit 25 tpy in the New York City and lower Orange County metropolitan areas and 100 tpy in the rest of the State. Consequently, all major stationary sources of NOX within the State of New York are required to implement RACT no later than May 31, 1995. For detailed information on the Act requirements for NOX RACT see the TSD prepared for today's proposal.

What Is EPA's Evaluation of New York's SIP Revision?

EPA has determined New York's SIP revision for New York's NOX RACT determination for General Chemical's Sodium Nitrite Manufacturing Plant is consistent with New York's NOX RACT regulation and EPA's guidance, except for the deficiencies discussed in the “What Are EPA's Proposed Conditions for Approval?” section. EPA's basis for evaluating New York's SIP revision, is whether it meets the SIP requirements described in section 110 of the Act. EPA has determined that New York's SIP revision will not interfere with any applicable requirement concerning attainment and reasonable further progress, or any other applicable requirement of the Act, once New York addresses the conditions for approval.

After reviewing New York's SIP revision submittal, on May 18, 2000, EPA determined it to be administratively and technically complete. The SIP revision was a request, by New York, for EPA approval of source-specific emission limitations developed in accordance with title 6 of the Official Compilation of Codes, Rules and Regulations of the State of New York (6 NYCRR) part 212 provisions for process sources. New York has issued to the owner a permit with special conditions which are fully enforceable by the State and which contain conditions consistent with part 212.

EPA has determined that, provided New York agrees to EPA's commitment request, until such time that New York complies with all of EPA's conditions for approval and submits them to EPA as a SIP revision, the NOX emission limits identified in New York's special permit conditions represent RACT for General Chemical's sodium nitrite manufacturing process. More specifically, EPA proposes to conditionally approve the source-specific NOX emission limitation of 172 pounds of NOX per hour for each unit, based on efficient plant operation as currently configured. The permit conditions include emission limits, work practice standards, testing, monitoring, and recordkeeping/reporting requirements. These permit conditions are consistent with the NOX RACT requirements specified in part 212 and conform to EPA's NOX RACT guidance. Therefore, EPA is proposing to conditionally approve the source-specific SIP revision submitted by New York dated April 12, 2000, as supplemented on May 12, 2000, May 16, 2000, October 10, 2002, and February 24, 2003. Please note there may be other requirements, such as adequate monitoring, which States and sources will need to provide for, through the Title V permitting process.

New York's SIP Revision

What Are New York's NOX RACT Requirements?

On January 20, 1994, New York submitted to EPA for approval as a revision to the SIP, 6 NYCRR Subpart 227-2, the State's NOX RACT plan entitled “Reasonably Available Control Technology For Oxides of Nitrogen (NOX RACT)—Stationary Combustion Installations.” Subpart 227-2 provides the NOX RACT requirements for combustion sources in New York and it became effective 30-days after being adopted on January 19, 1994. On April 29, 1999, New York submitted amendments to Subpart 227-2 as part of the State's NOX Budget Trading Program (Part 227-3) SIP revision. On April 28, 2000, the EPA final approval action on the two SIP revisions for Subpart 227-2 was published in the Federal Register (65 FR 24875). On May 22, 2001, the EPA final approval action on another amendment to subpart 227-2 was published in the Federal Register (66 FR 28059).

On July 8, 1994, New York submitted, to EPA for approval as a revision to the SIP, 6 NYCRR part 212 entitled “General Process Emission Sources.” Part 212 addresses the Act's NOX RACT requirements for process sources. On September 25, 2001, the EPA final approval action on part 212 was published in the Federal Register (66 FR 48957).

What Are New York's Facility-Specific NOX RACT Requirements?

Provisions within part 212 establish a procedure for a case-by-case determination of what represents RACT for an item of equipment, process or source. Facilities which conduct a RACT analysis are required to review control device technologies, technically feasible control strategies, and capture efficiencies of these controls for NOX sources, keeping in mind the reasonable economics of RACT. The process specific RACT demonstrations are required to be submitted to EPA for approval as SIP revisions. These provisions of part 212 are consistent with EPA guidance.

When Was New York's RACT Determination Proposed and Adopted?

New York's RACT determination was proposed on August 27, 1997, allowing 30 days for public comments. New York adopted the RACT determination on December 16, 1997.

When Was New York's SIP Revision Submitted to EPA?

New York's SIP revision was submitted to EPA on April 12, 2000. On May 18, 2000, EPA determined the submittal to be administratively and technically complete. Today's proposal is based on the April 12, 2000, SIP revision, as supplemented on May 12, 2000, May 16, 2000, October 10, 2002, and February 24, 2003.

General Information

How Can I Get Copies of This Document and Other Related Information?

The Regional Office has established an official public rulemaking file available for inspection at the Regional Office. EPA has established an official public rulemaking file for this action under Region 2 Docket Number NY62-261. The official public file consists of the documents specifically referenced in this action, any public comments received, and other information related to this action. Although a part of the official docket, the public rulemaking file does not include Confidential Business Information (CBI) or other information whose disclosure is restricted by statute. The official public rulemaking file is the collection of materials that is available for public viewing at the Environmental Protection Agency, Region II Office, Air Programs Branch, 290 Broadway, New York, New York 10007-1866. EPA requests that if at all possible, you contact the contact listed in the FOR FURTHER INFORMATION CONTACT section to schedule your inspection. The Regional Office's official hours of business are Monday through Friday, 8:30 to 4:30 excluding Federal holidays.

Copies of the State submittal and EPA's technical support document are also available for public inspection during normal business hours, by appointment at the State Air Agency New York Department of Environmental Conservation, Division of Air Resources, 625 Broadway, 2nd Floor, Albany, New York 12233.

Electronic Access. You may access this Federal Register document electronically through the Regulations.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

How and to Whom Do I Submit Comments?

You may submit comments electronically, by mail, or through hand delivery/courier. To ensure proper receipt by EPA, identify the appropriate rulemaking identification number by including the text “Public comment on proposed rulemaking [Region 2 Docket Number NY62-261]” in the subject line on the first page of your comment. Please ensure that your comments are submitted within the specified comment period. Comments received after the close of the comment period will be marked “late.” EPA is not required to consider these late comments.

Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

E-mail. Comments may be sent by electronic mail (e-mail) to Werner.Raymond@epa.gov, please include the text “Public comment on proposed rulemaking [Region 2 Docket Number NY62-261]” in the subject line. EPA's e-mail system is not an “anonymous access” system. If you send an e-mail comment directly without going through Regulations.gov, EPA's e-mail system automatically captures your e-mail address. E-mail addresses that are automatically captured by EPA's e-mail system are included as part of the comment that is placed in the official public docket.

Regulations.gov. Your use of Regulations.gov is an alternative method of submitting electronic comments to EPA. Go directly to Regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

Disk or CD ROM. You may submit comments on a disk or CD ROM that you mail to the mailing address identified below. These electronic submissions will be accepted in WordPerfect, Word or ASCII file format. Avoid the use of special characters and any form of encryption.

By Mail. Send your comments to: Raymond Werner, Chief, Air Programs Branch, Environmental Protection Agency, Region II Office, 290 Broadway, New York, New York 10007-1866; Please include the text “Public comment on proposed rulemaking [Region 2 Docket Number NY62-261]” in the subject line on the first page of your comment.

By Hand Delivery or Courier. Deliver your comments to: Raymond Werner, Chief, Air Programs Branch, Environmental Protection Agency, Region II Office, 290 Broadway, New York, New York 10007-1866. Such deliveries are only accepted during the Regional Office's normal hours of operation. The Regional Office's official hours of business are Monday through Friday, 8:30 to 4:30 excluding Federal holidays.

How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

Conclusion

EPA is proposing to conditionally approve the New York SIP revision for a source-specific RACT determination for General Chemical's sodium nitrite manufacturing plant. This SIP revision contains source-specific NOX emission limitations for General Chemical. EPA is proposing conditional approval of New York's SIP revision, provided New York commits in writing, on or before May 7, 2004, to correct the deficiencies discussed in the “What Are EPA's Proposed Conditions for Approval?” section. New York must then correct the deficiencies and submit them to EPA as a SIP revision within one year of EPA's final action on this SIP revision.

If New York submits a commitment to this effect in writing, on or before May 7, 2004, EPA will publish a final conditional approval of New York's SIP revision. EPA will consider all information submitted prior to any final rulemaking action as a supplement or amendment to the SIP submittal. If New York does not make the required commitment to EPA, EPA is proposing, in the alternative, to disapprove the SIP revision.

EPA is requesting public comment on the issues discussed in today's action. EPA will consider all public comments before taking final action. Interested parties may participate in the Federal rulemaking procedure by submitting comments to the EPA Regional office listed in the ADDRESSES section.

Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely proposes to approve a State rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Nitrogen dioxide, Ozone, Reporting and recordkeeping requirements.

Authority: 42 U.S.C. 7401 et seq.

Dated: March 23, 2004.
Jane M. Kenny,
Regional Administrator, Region 2.

[FR Doc. 04-7862 Filed 4-6-04; 8:45 am]

BILLING CODE 6560-50-P